DEPARTMENT OF ENERGY

Federal Energy Regulatory Commission

Combined Notice of Filings #1

Take notice that the Commission received the following exempt wholesale generator filings:

Docket Numbers: EG23-30-000.

Applicants: Chesapeake Solar Project, LLC.

Description: Chesapeake Solar Project, LLC submits Notice of Self-Certification of Exempt Wholesale Generator Status.

Filed Date: 12/14/22.

Accession Number: 20221214-5204.

Comment Date: 5 p.m. ET 1/4/23.

Docket Numbers: EG23-31-000.

Applicants: East Point Energy Center, LLC.

Description: Notice of Self-Certification of Exempt Wholesale Generator Status of East Point Energy Center, LLC.

Filed Date: 12/14/22.

Accession Number: 20221214-5209.

Comment Date: 5 p.m. ET 1/4/23.

Take notice that the Commission received the following electric rate filings:

Docket Numbers: ER18-2358-000.

Applicants: GridLiance High Plains LLC, Southwest Power Pool, Inc.

Description: Refund Report: Southwest Power Pool, Inc. submits tariff filing per 35.19a(b): GridLiance—Second Refund Report in Response to Order issued in ER18-2358 to be effective N/A.

Filed Date: 12/15/22.

Accession Number: 20221215-5003.

Comment Date: 5 p.m. ET 1/5/23.

Docket Numbers: ER22-1839-000.

Applicants: Panther Creek Power Operating, LLC.

Description: Refund Report: Refund Report to be effective N/A.

Filed Date: 12/15/22.

Accession Number: 20221215-5015.

Comment Date: 5 p.m. ET 1/5/23.

Docket Numbers: ER22-1850-001.

Applicants: ISO New England Inc., The United Illuminating Company.

Description: Compliance filing: ISO New England Inc. submits tariff filing per 35: The United Illuminating Company; Docket No. ER22-1850—Rev. to Schedule 21-UI to be effective 1/27/2020.

Filed Date: 12/15/22.

Accession Number: 20221215-5056.

Comment Date: 5 p.m. ET 12/27/22.

Docket Numbers: ER22-2867-001.

Applicants: Bluegrass Solar, LLC.

Description: Tariff Amendment: Response to Deficiency Letter in Docket ER22-2867 to be effective 10/1/2022.

Filed Date: 12/15/22.

Accession Number: 20221215-5028.

Comment Date: 5 p.m. ET 1/5/23.

Docket Numbers: ER23-258-001.

Applicants: Palmer Solar, LLC.

Description: Tariff Amendment: Amendment Filing to be effective 12/28/2022.

Filed Date: 12/15/22.

Accession Number: 20221215-5095.

Comment Date: 5 p.m. ET 1/5/23.

Docket Numbers: ER23-630-000.

Applicants: Midcontinent Independent System Operator, Inc.

Description: § 205(d) Rate Filing: 2022-12-14_Attachment Y Process Improvements to be effective 2/13/2023.

Filed Date: 12/14/22.

Accession Number: 20221214-5131.

Comment Date: 5 p.m. ET 1/4/23.

Docket Numbers: ER23-631-000.

Applicants: San Diego Gas & Electric Company.

Description: § 205(d) Rate Filing: 2023 TACBAA Update to be effective 1/1/2023.

Filed Date: 12/14/22.

Accession Number: 20221214-5135.

Comment Date: 5 p.m. ET 1/4/23.

Docket Numbers: ER23-632-000.

Applicants: Tri-State Generation and Transmission Association, Inc.

Description: Compliance filing: Cost Based Rate Tariff to be effective 3/7/2022.

Filed Date: 12/14/22.

Accession Number: 20221214-5153.

Comment Date: 5 p.m. ET 1/4/23.

Docket Numbers: ER23-633-000.

Applicants: Westlands Transmission, LLC.

Description: § 205(d) Rate Filing: Second Amended TSA with Westlands Solar Blue, LLC to be effective 12/15/2022.

Filed Date: 12/14/22.

Accession Number: 20221214-5158.

Comment Date: 5 p.m. ET 1/4/23.

Docket Numbers: ER23-634-000.

Applicants: Southwest Power Pool, Inc.

Description: § 205(d) Rate Filing: Allow LREs to Use Deliverable Capacity to Meet Winter Season Obligation to be effective 2/14/2023.

Filed Date: 12/15/22.

Accession Number: 20221215-5037.

Comment Date: 5 p.m. ET 1/5/23.

Docket Numbers: ER23-635-000.

Applicants: Southwest Power Pool, Inc.

Description: § 205(d) Rate Filing: Revisions to Attachment Y to Update the Transmission Owner Selection Process to be effective 2/14/2023.

Filed Date: 12/15/22.

Accession Number: 20221215-5055.

Comment Date: 5 p.m. ET 1/5/23.

Docket Numbers: ER23-636-000.

Applicants: Southwest Power Pool, Inc.

Description: § 205(d) Rate Filing: Revisions to Add a Process to Allow an Exemption of the Deficiency Payment to be effective 2/14/2023.

Filed Date: 12/15/22.

Accession Number: 20221215-5062.

Comment Date: 5 p.m. ET 1/5/23.

Docket Numbers: ER23-637-000.

Applicants: ISO New England Inc., NSTAR Electric Company.

Description: § 205(d) Rate Filing: ISO New England Inc. submits tariff filing per 35.13(a)(2)(iii: NSTAR Electric Company; Request for Updated Depreciation Rates in App D to Att F to be effective 1/1/2023.

Filed Date: 12/15/22.

Accession Number: 20221215-5065.

Comment Date: 5 p.m. ET 1/5/23.

Docket Numbers: ER23-638-000.

Applicants: Southwest Power Pool, Inc.

Description: § 205(d) Rate Filing: 3774R1 The Energy Authority and MEAN Meter Agent Agreement to be effective 4/1/2023.

Filed Date: 12/15/22.

Accession Number: 20221215-5085.

Comment Date: 5 p.m. ET 1/5/23.

Docket Numbers: ER23-639-000.

Applicants: Southwest Power Pool, Inc.

Description: § 205(d) Rate Filing: 4036 Southwestern Power Admin & People's Electric Inter Agr to be effective 1/1/2023.

Filed Date: 12/15/22.

Accession Number: 20221215-5092.

Comment Date: 5 p.m. ET 1/5/23.

Docket Numbers: ER23-640-000.

Applicants: Alabama Power Company, Georgia Power Company, Mississippi Power Company.

Description: § 205(d) Rate Filing: Alabama Power Company submits tariff filing per 35.13(a)(2)(iii: City of Troy NITSA Amendment Filing (Update Network Resource) to be effective 11/30/2022.

Filed Date: 12/15/22.

Accession Number: 20221215-5093.

Comment Date: 5 p.m. ET 1/5/23.

Docket Numbers: ER23-641-000.

Applicants: R-WS Antelope Valley Gen-Tie, LLC.

Description: § 205(d) Rate Filing: Assignment and Assumptions of Co-Tenancy Interests in Shared Facilities to be effective 12/16/2022.

Filed Date: 12/15/22.

Accession Number: 20221215-5120.

Comment Date: 5 p.m. ET 1/5/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2022.
Debbie-Anne A. Reese,
Deputy Secretary.

[FR Doc. 2022-27721 Filed 12-20-22; 8:45 am]

BILLING CODE 6717-01-P